FEDERAL DEPOSIT INSURANCE CORPORATION

Sunshine Act Meetings

TIME AND DATE: 10:00 a.m. on January 22, 2026.

PLACE: This Board meeting will be open to public observation by webcast. Visit https://www.fdic.gov/news/board-matters/video.html for a link to the webcast. Members of the media should contact the Office of Communications by Tuesday, January 20, at mediarequests@fdic.gov to attend in person. FDIC Board Members and staff will participate from FDIC Headquarters, 550 17th Street NW, Washington, DC.

Observers requiring auxiliary aids should email DisabilityProgram@fdic.gov to make necessary arrangements.

STATUS: Open to public observation via webcast.

MATTERS TO BE CONSIDERED: The Federal Deposit Insurance Corporation's (FDIC) Board of Directors will meet to consider the following matters:

Discussion Agenda

Amendments to the FDIC's Guidelines for Appeals of Material Supervisory Determinations.

Summary Agenda

No substantive discussion of the following items is anticipated. The Board of Directors will resolve these matters with a single vote unless a member of the Board requests that an item be moved to the discussion agenda.

Final Rule on FDIC Official Signs and Advertising Requirements.

Minutes of Board of Directors' Meetings Previously Distributed.

CONTACT PERSON FOR MORE INFORMATION: For further information, please contact Debra A. Decker, Executive Secretary, FDIC, at FDICBoardMatters@fdic.gov.

Authority: 5 U.S.C. 552b.

Dated at Washington, DC, on January 15, 2026.
Federal Deposit Insurance Corporation.
Debra A. Decker,
Executive Secretary.

[FR Doc. 2026-01028 Filed 1-16-26; 11:15 am]

BILLING CODE 6714-01-P